DEPARTMENT OF HOMELAND SECURITY

Border and Transportation Security Directorate; Notice of 30-Day Information Collection Under Review for United States Visitor and Immigrant Status Indicator Technology Program (US-VISIT)

AGENCY: Border and Transportation Security Directorate, DHS.

ACTION: Notice; 30-day notice of information collection under review.

SUMMARY: The Department of Homeland Security, Border and Transportation Security Directorate, DHS has submitted the following information collection request to the Office of Management and Budget (OMB) for review and clearance in accordance with the Paperwork Reduction Act of 1995. The information collection was previously published in the Federal Register on January 5, 2004, at 69 FR 479, allowing for a 60-day public comment period. No comments were received by DHS on this information collection. The purpose of this notice is to allow an additional 30 days for public comments.

DATES: Comments are encouraged and will be accepted until April 7, 2005. This process is conducted in accordance with 5 CFR 1320.10.

ADDRESSES: You may submit comments, identified by DHS-2005-0013 by one of the following methods:

• EPA Federal Partner EDOCKET Web site: http://www.epa.gov/feddocket. Follow instructions for submitting comments on the Web site.

• Federal eRulemaking Portal: http://www.regulations.gov. Follow the instructions for submitting comments.

• E-mail: Claire.miller@dhs.gov. Include DHS-2005-0013 in the subject line of the message.

• Fax: (202) 298-5060.

• Mail: Office of Management and Budget, Attn: Desk Officer for Homeland Security, Room 10235, Washington, DC 20503.

• Hand Delivery/Courier: Office of Management and Budget, Attn: Desk Officer for Homeland Security, Room 10235, Washington, DC 20503.

Instructions: All submissions received must include the agency name and DHS-2005-0013) for this rulemaking. All comments received will be posted without change to http://www.epa.gov/feddocket, including any personal information provided. For detailed instructions on submitting comments and additional information on the rulemaking process, see the “Public Participation” heading of the SUPPLEMENTARY INFORMATION section of this document.

Docket: For access to the docket to read background documents or comments received, go to http://www.epa.gov/feddocket. You may also access the Federal eRulemaking Portal at http://www.regulations.gov.

SUPPLEMENTARY INFORMATION:

Request for Comments

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Border and Transportation Security Directorate, DHS.

Title: United States Visitor and Immigrant Status Indicator Technology Program (US-VISIT).

OMB No.: 1600-0006.

Frequency: On occasion.

Affected Public: Individual aliens. Non-immigrant visa holders who seek admission to the United States at air and sea ports of entry and designated departure locations.

Estimated Number of Respondents: From January 5, 2004, to January 5, 2005, the number of nonimmigrant visa-holders required to provide biometrics at the air and sea ports of entry is anticipated to be approximately 24 million, comprised of approximately 19.3 million air travelers and 4.5 million sea travelers.

Estimated Time per Response: The average processing time per person for who biometrics will be collected is approximately one minute and fifteen seconds at entry, with 15 seconds being the additional time added for biometric collection over and above the normal inspection processing time. The average additional processing time upon exit is estimated at one minute per person. There are no additional fees for traveling aliens to pay.

Total Burden Hours: Approximately 100,800.

Total Cost Burden: None.

Description: The biometric information to be collected is for nonimmigrant visa holders who seek admission to the United States at the air and sea ports of entry and certain departure locations. The collection of information is necessary for the Department to continue its compliance with the mandates in section 303 of the Border Security Act, 8 U.S.C. 1732 and sections 403(c) and 414(b) of the USA PATRIOT Act, 8 U.S.C. 1365a note and 1379, for biometric verification of the identities of alien travelers and authentication of their biometric travel documents through the use of machine readers installed at all ports of entry. The arrival and departure inspection procedures are authorized by 8. U.S.C. 1225 and 1185.

Dated: March 3, 2005.
Mark Emery,
Deputy, Chief Information Officer.

[FR Doc. 05-4475 Filed 3-7-05; 8:45 am]

BILLING CODE 4410-10-P